ENVIRONMENTAL PROTECTION AGENCY

40 CFR Part 271

[EPA-R08-RCRA-2022-0485; FRL 9896-01-R8]

North Dakota: Authorization of State Hazardous Waste Management Program Revisions

AGENCY: Environmental Protection Agency (EPA).

ACTION: Proposed rule.

SUMMARY: The EPA is proposing to grant authorization to the State of North Dakota for changes to its hazardous waste program under the Solid Waste Disposal Act, as amended, commonly referred to as the Resource Conservation and Recovery Act (RCRA). EPA has determined that these changes satisfy all requirements needed to qualify for final authorization and is authorizing the State's changes through a direct final action, with the exception of Revision Checklist 241.

DATES: Send written comments by November 18, 2022.

ADDRESSES: Submit your comments, identified by Docket ID No. EPA-R08-RCRA-2022-0485 by mail to Moye Lin, Resource Conservation and Recovery Act Branch, LCR-RC, EPA Region 8, 1595 Wynkoop Street, Denver, Colorado 80202-1129. You may also submit comments electronically or through hand delivery/courier by following the detailed instructions in the ADDRESSES section of the direct final rule located in the Rules and Regulations section of this issue of the Federal Register.

FOR FURTHER INFORMATION CONTACT: Moye Lin at (303) 312-6667, lin.moye@epa.gov.

SUPPLEMENTARY INFORMATION: In the “Rules and Regulations” section of this issue of the Federal Register, the EPA is authorizing changes to the North Dakota program as a direct final rule. The EPA did not make a proposal prior to the direct final rule because we believe this action is not controversial and do not expect comments that oppose it. We have explained the reasons for this authorization in the preamble to the direct final rule.

Unless the EPA receives written comments that oppose the authorization during the comment period, the direct final rule will become effective on the date it establishes, and we will not take further action on this proposal. If EPA receives comments that oppose the authorization, we will withdraw the direct final rule and it will not take immediate effect. We will then respond to public comments in a later final rule based on this proposal. You may not have another opportunity for comment. If you want to comment on this action, you must do so at this time.

Dated: October 13, 2022.
KC Becker,
Regional Administrator, Region 8.

[FR Doc. 2022-22714 Filed 10-18-22; 8:45 am]

BILLING CODE 6560-50-P